DEPARTMENT OF COMMERCE

National Oceanic and Atmospheric Administration

50 CFR Part 680

[Docket No. 120806311-3530-02]

RIN 0648-BC25

Fisheries of the Exclusive Economic Zone Off Alaska; Bering Sea and Aleutian Islands Crab Rationalization Program

AGENCY: National Marine Fisheries Service (NMFS), National Oceanic and Atmospheric Administration (NOAA), Commerce.

ACTION: Final rule.

SUMMARY: NMFS issues regulations to implement Amendment 42 to the Fishery Management Plan for Bering Sea/Aleutian Islands King and Tanner Crabs (FMP). These regulations revise the annual economic data reports (EDRs) currently required of participants in the Crab Rationalization Program (CR Program) fisheries. The EDRs include cost, revenue, ownership, and employment data the North Pacific Fishery Management Council (Council) and NMFS use to study the economic impacts of the CR Program on harvesters, processors, and affected communities. This action is necessary to eliminate redundant reporting requirements, standardize reporting across participants, and reduce costs associated with the data collection. This action is intended to promote the goals and objectives of the Magnuson-Stevens Fishery Conservation and Management Act (MSA), the FMP, and other applicable laws.

DATES: Effective July 17, 2013.

ADDRESSES: Electronic copies of Amendment 42 to the FMP, the Regulatory Impact Review (RIR)/Initial Regulatory Flexibility Analysis (IRFA), and the Categorical Exclusion prepared for this action may be obtained from http://www.regulations.gov or from the Alaska Region Web site at http://alaskafisheries.noaa.gov. The Environmental Impact Statement, RIR, and Social Impact Assessment prepared for the CR Program are available from the NMFS Alaska Region Web site at http://alaskafisheries.noaa.gov. Written comments regarding the burden-hour estimates or other aspects of the collection-of-information requirements contained in this rule may be submitted to NMFS Alaska Region, P.O. Box 21668, Juneau, AK 99802, Attn: Ellen Sebastian, Records Officer; in person at NMFS Alaska Region, 709 West 9th Street, Room 420A, Juneau, AK; and by email to OIRA_Submission@omb.eop.gov or faxed to 202-395-7285.

FOR FURTHER INFORMATION CONTACT: Karen Palmigiano, 907-586-7091.

SUPPLEMENTARY INFORMATION: This final rule implements Amendment 42 to the FMP. NMFS published a notice of availability (NOA) for Amendment 42 on March 12, 2013 (78 FR 15677). The comment period on NOA for Amendment 42 ended on May 13, 2013. The Secretary approved Amendment 42 on June 5, 2013, after accounting for information from the public, and determining that Amendment 42 is consistent with the FMP, the MSA, and other applicable law. NMFS published a proposed rule to implement Amendment 42 on March 21, 2013 (78 FR 17341). The comment period on the proposed rule ended on April 22, 2013. NMFS received a total of 5 comment letters from 3 persons during the comment periods on Amendment 42 and the proposed rule to implement the amendment. The letters contained 18 separate topics. A summary of these comments and NMFS's responses are provided in the Comments and Responses section of this preamble.

Amendment 42 and this final rule apply to the CR Program's annual economic data collection program and the annual EDRs. At the beginning of the CR Program, the Council recommended and NMFS implemented a comprehensive economic data collection program. The CR Program requires participants to complete an annual EDR based on harvesting and processing activities for the associated fishing season. The Council and NMFS use the annual EDRs to assess the success of the CR Program and develop amendments to the FMP necessary to mitigate any unintended consequences of the CR Program. An annual EDR is currently required for four categories of participants in the CR Program fisheries: catcher vessels, catcher/processors, shoreside processors, and stationary floating processors. Data submission is mandatory.

The EDR Program is administered by NMFS through contracts with the Pacific States Marine Fisheries Commission (PSMFC). NMFS collects fees from CR Program participants to recover the costs of administering the EDR Program.

As described in the proposed rule to implement Amendment 42, the Council initiated an analysis in 2010 to modify the EDR based on its data quality review process and public comment received during the Council's 5-year review of the CR Program. In February 2012, the Council recommended Amendment 42 to the FMP to modify the EDR. Following the Council's recommendation of Amendment 42, additional industry outreach and Council review of the proposed EDR revisions ensured that the revisions were compatible with industry recordkeeping procedures and consistent with the intent of the Council recommendations. In October 2012, the Council reviewed three proposed EDR forms developed for this action and the draft Paperwork Reduction Act (PRA) submission. Following this review, the Council confirmed its support for Amendment 42.

The Council recommended Amendment 42 to address its concerns with accuracy and consistency of reported data, redundant data reporting, and reducing industry's reporting burden. Those concerns are discussed in detail in the proposed rule to implement Amendment 42 (78 FR 17341, March 21, 2013) and are briefly summarized here.

Data that is inconsistently or inaccurately reported is not useful to the Council or NMFS. For example, reporting labor information for each crab fishery, including average processing positions, does not provide an accurate estimate of the number of staff used, as staff may be reassigned to non-crab tasks with changing plant needs. Therefore, the Council recommended removing this data-reporting requirement, as inaccurately or inconsistently reported data has limited analytical use.

In addition to data quality limitations, several data elements removed from the EDR by this final rule are currently collected under other NMFS or State of Alaska data collection programs. For example, the requirement for catcher vessels to report their fishing activity, including fish ticket numbers, days fishing, and days transiting and offloading, by crab fishery are also collected by the State of Alaska and then shared with NMFS through a data sharing agreement. The Council and NMFS believe these data elements are useful for examining operational efficiencies; however, each of these data elements is individually available through other data collection sources.

Finally, the cost to industry, both directly through data submission and indirectly through cost recovery funding of program administration, exceeds the estimates of administering and complying with the EDR that NMFS provided in the initial RIR/IRFA of the CR Program (see ADDRESSES). NMFS' administrative costs associated with the current EDRs result from the production and distribution of data collection forms, processing completed forms, data entry, data verification, and data management. Annually, these costs are then “billed” to CR Program participants through the CR Program's cost recovery fee system.

For CR Program participants required to submit the EDRs, the amount of time needed to complete the current crab EDRs is higher than originally estimated when the EDR Program was developed. To complete an EDR form, CR Program participants are required to consult both annual fishing (i.e., days fishing, days traveling, and days processing) and financial (i.e., landings by share type, sales by species, and fuel costs) information, which are not often recorded in the same format. In the original PRA statement for the initial EDR Program, the estimates of time required to accurately complete each EDR was 7.5 hours per vessel. In 2012, during public testimony, the Council was advised that the time required to complete each of the current EDR forms was approximately 45 to 50 hours. The EDR modifications implemented by this rule will remove data elements that are already reported through other data collection programs. This will reduce the amount of information industry participants are required to report in each EDR and reduce the amount of time it takes to complete the EDRs.

Response to Comments

NMFS received 5 letters of public comment from 3 individuals during the public comment periods for Amendment 42 and the proposed rule. A summary of the comments received and NMFS' responses follow.

Comment 1: The proposed rule is consistent with Amendment 42 as adopted by the Council. We urge the Secretary to adopt Amendment 42 to the FMP for the Bering Sea/Aleutian Islands King and Tanner crab as soon as legally permissible.

Response: NMFS acknowledges this comment.

Comment 2: The quality of data this agency works with is poor. The information is inaccurate and unrealistic.

Response: NMFS disagrees. This action ensures that EDRs collect the best data currently available. The purpose of Amendment 42 and this final rule is to address the current problems with the EDR Program so that the data collected is accurate and informative to the Council, not redundant with existing reporting requirements, and can be reported by industry and administered at a reasonable cost. Regulations implementing the EDR found at 50 CFR 680.6(f) also provide for verification of information to ensure that the data collected is error-free.

Comment 3: NMFS and the Council need to be more responsive to the MSA requirements for economic data collection and analysis and do a better job of explaining why meeting those requirements should be beneficial to the industry and the public.

Response: NMFS disagrees. NMFS and the Council both believe they have responded adequately to the MSA requirements for economic data collection. Section 313(j)(1) of the MSA required the Secretary to approve and implement the CR Program approved by the Council, which included a requirement to collect economic data. Under the CR Program, the EDR data will be used “to study the impacts of the crab rationalization program” and to ensure that the program will achieve “equity between the harvesting and processing sectors” and to monitor the “economic stability for harvesters, processors, and coastal communities”. The CR Program required by section 313(j)(1) of the MSA also provides specific guidance on the type of data to be collected, requirements for selecting a data collection agent, verification of data, and treatment and distribution of confidential data that are included in this collection.

The CR Program EDR provides information to aid the public at-large, industry, and decision makers in reviewing the impacts of the CR Program. NMFS has determined that this final rule is consistent with the MSA and other applicable law.

Comment 4: The proposed rule and Amendment 42 would substantially decrease the economic data that are available to the Council and NMFS.

Response: NMFS disagrees. NMFS acknowledges that this action will quantitatively reduce the number of reported data elements. However, NMFS has worked with the Council and industry to ensure that data that can be accurately, reliably, and consistently reported will be collected in this revised EDR. The Council and NMFS are eliminating particular data elements, which were determined to be inaccurate or inconsistently reported after a careful, comprehensive multi-year CR Program EDR review as described in detail in the preamble to the proposed rule (78 FR 17341, March 21, 2013) and the RIR/IRFA prepared for this action (see ADDRESSES). NMFS will continue to work with the Council and industry to collect the best information available.

Comment 5: A fundamental problem with the initial EDR Program was that the Council and NMFS decided that it be limited to collecting purely crab fishery data and exclude the collection of economic data associated with other activities of the fishing vessels and processors that participate in the crab fisheries.

Response: NMFS disagrees. The EDR Program collects data necessary to understand the CR Program's effects and performance. The EDR Program's original goals and implementing regulations focused on crab fishery data collection. The EDR Program was established this way to provide more detailed information for analyses, as the individual crab fisheries differ in their prosecution. Regulations implementing the EDR Program were intended to meet a specific purpose and need to collect crab fishery data. The alternatives considered, and the revisions implemented by this action are consistent with that purpose and need.

Comment 6: A fundamental problem with the initial EDR Program was that the EDR data are maintained by a third party data manager who provides those data to analysts in a blind format that does not allow analysts to directly identify the source of any observations. Additionally, an alternative that allowed for the removal of blind formatting was discussed in the RIR/IRFA for this action, but the discussion is not complete.

Response: NMFS disagrees. According to the PRA support statement from the original EDR Program, Congress required that an independent third party data collection agent (DCA) administer the collection and dissemination of EDR data to address concerns for strict control over sensitive economic data. NMFS then selected PSMFC to be the DCA. Additionally, NFMS and the Council considered the information provided in the RIR/IRFA prepared for Amendment 42, as well as public testimony, in determining whether or not to remove the blind formatting requirement. Section 2.5.1 of the RIR/IRFA discusses the potential impacts of removing the requirements of removing blind formatting. This section was reviewed by the public, the Council's Scientific and Statistical Committee (SSC) and Advisory Panel (AP), and the Council. Based on the information presented in the RIR, and public concern that the removal of blind formatting could result in the release of sensitive business information, NMFS and the Council concluded that maintaining blind formatting would reduce the risk of releasing sensitive business information when providing data to analysts.

Comment 7: The RIR/IRFA was incomplete, did not include suggestions from the SSC or the Alaska Fisheries Science Center (AFSC), appears to be biased towards industry, and does not clearly state the objectives of the action.

Response: NMFS disagrees. The RIR/IRFA was developed by Council staff, in cooperation with individuals from NMFS, the SSC, the AFSC, and the AP. Information found in the RIR/IRFA is taken directly from the multi-year review of the quality of data collected through the EDRs, as well as reports from the AFSC, the Council, and PSMFC. The RIR/IRFA was also made available to the public beginning in early 2012. The public has had several opportunities to provide comment on the revised EDR forms and the RIR/IRFA. NMFS has determined that the RIR/IRFA provides a comprehensive review of the objectives of Amendment 42 and meets the requirements of Executive Order 12866 and other applicable law.

Comment 8: Were the RIR/IRFA objectives specified clearly or at all for Amendment 42?

Response: NMFS acknowledges this comment. The objectives for data collection for the CR Program were clearly identified in the original RIR/IRFA for the Program, as well as in the development of Amendments 18 and 19 to the FMP, which established the CR Program. In revising the EDR collection, the Council provided a “purpose and need statement” in the RIR/IRFA for Amendment 42. The Council developed the purpose and need statement after its assessment of the original EDR Program. The purpose and need statement identified objectives as follows: “To address these problems, the Council intends to amend the EDR process so that the data collected is accurate, informative to the Council, not redundant with existing reporting requirements, and can be reported by industry and administered at a reasonable cost. The Council expressly wants to limit the EDR to the collection of data that have been demonstrated, through the development of the EDR metadata, and other reviews of the data, to be sufficiently accurate.” NMFS has determined that this final rule is consistent with the objectives found in the purpose and need statement for Amendment 42.

Comment 9: The examples of redundant reporting are not documented well and the redundancies may be overstated. There appears to be little or no considerations of methods for improving the scope, quality and access to economic data from other sources (e.g. elandings, fish ticket, and Restricted Access Management [RAM] data).

Response: NMFS disagrees. Several data quality assessments were conducted prior to the development of the RIR/IRFA. Information taken from those assessments has been summarized in the RIR/IRFA and is referenced in section 2.5.6. These assessments describe the EDR Program data inaccuracy and collection redundancy concerns. These initial assessments were published in the “Bering Sea and Aleutian Islands Crab Economic Data Report Database Metadata Documentation” report available on the NOAA Fisheries Web site at http://www.fakr.noaa.gov/sustainablefisheries/crab/rat/edr/default.htm. These data quality assessments were reviewed by the Council and were used in the development of the RIR/IRFA. The EDR data assessment included determining whether the data was available through other federal and state sources. In instances where another source provided EDR data, or more accurate data, NMFS and the Council determined that it was more efficient and less burdensome to industry to remove the data element from the crab EDR and rely on data from the other source. The Council and NMFS will review the EDR Program periodically, and use the opportunity to determine whether additional CR Program data is available from other sources.

Comment 10: Too much weight is given to the objective of reducing the data collection on the industry and insufficient weight to having adequate economic data for these fisheries.

Response: NMFS disagrees. NMFS and the Council only considered removing EDR data elements after several reviews of the CR Program and the EDRs. While every effort is made to ensure that the best available data are collected in the EDRs, NMFS and the Council are required to balance data that can be accurately and consistently reported with the industry's reporting burden. Based on the assessments of the CR Program data, the RIR/IRFA prepared for this action, and public testimony, the Council recommended, and NMFS agrees, that the EDR revisions implemented by this final rule achieve this balance.

Comment 11: We note the annual submission date for the EDR forms is June 28 of each year. If this action does not move forward expeditiously, data submitters will be subjected to another year of an overly burdensome reporting requirement that yields data of questionable quality and utility.

Response: NMFS acknowledges the comment. NMFS has worked to finalize Amendment 42 and this rule as expeditiously as possible. NMFS and the PSMFC will coordinate with affected CR Program participants to implement the EDR requirements.

Comment 12: Are the statements that the “Council was advised that for the current EDR the actual time required to complete the forms was approximately 45 to 50 hours” and that “in the majority of cases, the data collected in the EDRs are already collected under other programs reported elsewhere” consistent? If the data reporting burden is excessive, more efficient data collection methods are probably preferable to severely curtailing the EDR Program.

Response: NMFS acknowledges this comment. The statements are consistent. During the development of this action, the Council and NMFS were presented with information from the affected CR Program participants that demonstrated that some of the EDR data requested was already available through other data collection programs. For example, EDR forms required submitters to specify the number of days fishing by a catcher vessel. This information could be gleaned from the state fish ticket data by looking at the date the first gear was set and the day the last gear was hauled. However, traditionally this information was obtained through catcher vessel logbooks, which collect date and time of setting and hauling for each string, catch in each string, and offload date. Using the data from the logbooks required the EDR submitter to do additional calculations to provide the information requested in the EDR. Industry participants voiced concern that the process of aggregating or disaggregating data already collected is a considerable time burden. Based on their testimony and the assessments of the data, NMFS and the Council removed the information on fishing days and days traveling. Instead NMFS and the Council will refer to the information already submitted through fish tickets to obtain information on fishing days. The same process was followed in instances where industry participants were able to demonstrate that information required by the EDR was already available through a different data collection program.

Additionally, Executive Order 13563, Section 6(a), requires that “[t]o facilitate the periodic review of existing significant regulations, agencies shall consider how best to promote retrospective analysis of rules that may be outmoded, ineffective, insufficient, or excessively burdensome, and to modify, streamline, expand, or repeal them in accordance with what has been learned.” In compliance with E.O. 13563, NMFS analyzed the EDR Program and found areas where data collection was ineffective and excessively burdensome. In response, NMFS has modified the EDR Program accordingly.

Comment 13: Does the EDR data element “Health Insurance and Retirement Benefits—available for captain and crew” on the proposed EDR forms refer to the type of benefits or their costs?

Response: NMFS acknowledges this comment. The question regarding “Health Insurance and Retirement Benefits” specifically asks, “Did you provide paid health insurance or retirement benefits to captain or crew members in addition to labor payments reported above?” CR Program participants will only be required to complete a “yes/no” check box in order to report whether or not such benefits are offered to captain and crew for the EDR entity and will not be required to report the types of benefits or their costs.

Comment 14: If the shoreside processor and floating processor EDR forms are essentially the same, it makes sense to combine them, but it is not clear why that would be a “major change” as stated in the proposed rule.

Response: NMFS acknowledges this comment. Both NMFS and the Council believed that a reduction from four EDR forms to three constituted one of the larger changes made to the EDR Program under this action. However, neither the Council nor NMFS meant to imply that this change was in any way more important or significant than any of the other changes to the EDR Program made by this action.

Comment 15: The crew member contracts and settlement sheets could provide a wealth of information with a minimal reporting burden for the industry. That option may have been discarded without adequate consideration of the benefits of those data.

Response: NMFS disagrees. Both NMFS and the Council weighed the cost and benefits of collecting crew contract information. Additionally, public testimony was given in regard to requiring crew contract submittal as part of the EDR Program. The majority of that testimony did not support the collection of crew contracts. The public had concerns over the collection of personally identifiable information (i.e., addresses) that is contained in crew contracts. NFMS and the Council also determined that collecting crew contracts and settlement sheets would substantially increase the administrative costs of the EDR Program. Additionally, the data from crew contracts may not be accurate, may not include all compensation, and may not provide more information than what is already requested in the revised EDR forms. Therefore, NMFS and the Council suggested that CR Program participants continue to submit aggregated crew compensation information.

Comment 16: What's the difference between “variable input quantities and prices” and “input quantities and prices” as indicated on page 9 of the RIR?

Response: NMFS acknowledges this comment. The information on page 9 (section 2.4.2) of the RIR/IRFA was taken from the original PRA supporting statement from the initial EDR Program. The original document appears to have a typographical error, which was carried forward to the RIR. NMFS updated the RIR/IRFA to remove the second phrase “input quantities and prices”.

Comment 17: The RIR/IRFA states that “This element [leased pounds and lease costs] would remove those complications by limiting reporting to market transactions for exclusively monetary compensation”, but it does not discuss the huge reporting loophole this would create in the data on transfers of crab quota share and individual fishing quota.

Response: NMFS disagrees. In determining which data elements to collect, the Council and NMFS had to weigh the usefulness and accuracy of the data being collected against the accuracy and burden of the specific data element. For the data element “leased pounds and lease costs”, the Council and NMFS believed that it was most beneficial and least costly to CR Program participants to collect this information by fishery for “arm's length transactions and monetary payments” only. While it does leave out those transfers that are not “arm's length” or may include non-monetary assets, the Council and NMFS determined that including those elements would complicate the reporting requirement. By including transactions that are not “arm's length” or transactions that include non-monetary payments, CR Program participants would be required to report each transaction separately to isolate transactions that are non-market or that would require the valuation of non-monetary assets. By only requiring share transfers for monetary payments, CR Program participants are able to avoid collecting information concerning assets that are more difficult to value. NMFS and the Council believe limiting the requirement will result in more consistent and accurate reporting by all CR Program participants.

Comment 18: Footnote 11 on page 17, of the RIR, states that “Depending on the specific reporting requirements established for crew under the revised C share active participation requirements adopted by the Council [Amendment 31 to the FMP] and pending Secretarial approval, this information could be available through other sources. Regulations for that action should be finalized in early 2012.” These regulations have not yet been finalized, so the date is incorrect.

Response: NMFS acknowledges the comment and revised the RIR/IRFA to indicate that NMFS is developing a proposed rule for Amendment 31 to the FMP.

Changes From the Proposed Rule to the Final Rule

NMFS made three changes from the proposed to final rule to clarify who is required to submit an annual EDR. Although the proposed rule preamble and RIR/IRFA described these persons and the need to obtain EDRs from them, the regulations in the proposed rule did not clearly identify crab buyers—primarily registered crab receiver (RCR) permit holders—who did not operate a plant that processed CR crab but purchased processed CR crab (i.e., custom processed-only buyers) as persons who must submit an EDR. The Council intended to include any person contracting for custom processing, as those persons are not currently required to report custom processing costs or revenues from sales (section 2.2.2 of the RIR/IRFA). NMFS changed the regulations for the economic data reports at § 680.6(a)(1) to include those persons who obtained custom processing for CR crab in the list of persons who must submit an annual EDR. NMFS also changed the regulations at § 680.6(b) to clarify that any person who is required under section § 680.6(a) to submit an annual EDR is also required to submit the EDR certification page. Lastly, NMFS added the regulations at § 680.6(e)(2) to require submission of the Annual stationary floating crab processor (SFCP) and shoreside crab processor EDR by any holder of a RCR permit that obtained custom processing for CR Program crab. The changes to § 680.6(b) and § 680.6(e) were necessitated by the previous regulation change to § 680.6(a).

While not resulting in a change to the final rule, NMFS notes a misstatement found on page 17344 of the proposed rule, in the middle of the second paragraph under “Annual Shoreside Processor/Stationary Floating Processor Crab EDR”. There, the preamble states that revenues from custom processing (an arrangement under which a person processes crab on behalf of another) would be added to the EDR, explaining that the data is currently unavailable from other sources.

That information is incorrect. Revenues from custom processing are currently collected and would still be collected, along with quantities of custom processed crab products. Custom processing services purchased are collected by crab fishery, identifying pounds of raw crab processed and finished product amounts together with the payments for services. Thus, consistent with the Council motion, NMFS intends to continue to collect this data and mistakenly indicated that it was not currently collected. NMFS received no comments on this point.

Classification

Pursuant to sections 304(b) and 305(b) of the MSA, the NMFS Assistant Administrator has determined that Amendment 42 and this final rule are consistent with the FMP, other provisions of the MSA, and other applicable law.

This final rule has been determined to be not significant for the purposes of Executive Order 12866.

Regulatory Impact Review (RIR)

An RIR/IRFA was prepared to assess all costs and benefits of available regulatory alternatives. The RIR/IRFA considers all quantitative and qualitative measures. A copy of this analysis is available from NMFS (see ADDRESSES). The Council recommended Amendment 42 based on the benefits it will provide to the Nation, which will be derived from the updating and revision of the current EDRs. Specific aspects of the economic analysis are discussed below.

Final Regulatory Flexibility Analysis (FRFA)

This final regulatory flexibility analysis (FRFA) incorporates the Initial Regulatory Flexibility Analysis (IRFA), a summary of the significant issues raised by the public comments in response to the IRFA, NMFS' response to those comments, and a summary of the analyses completed to support the action.

NMFS published a proposed rule to implement Amendment 42 on March 22, 2013 (78 FR 17341). An IRFA was prepared and summarized in the Classification section of the preamble to the proposed rule. The description of this action, its purpose, and its legal basis are described in the preamble to the proposed rule and are not repeated here.

NMFS received 18 public comments on Amendment 42 and the proposed rule. Several of the comments touched on subjects that were covered in the IRFA, including the action objectives (comment 8) and reporting requirements (comments 9 and 10). The full comments and responses can be found in the “Response to Comments” section of this final rule.

Number and Description of Small Entities Regulated by the Action

The EDR is required to be submitted by 74 catcher vessel owners. Based on the definition of a small entity (see section 3.1.1 of the RIR/IRFA for the full definition and discussion of what a “small entity” is), only one vessel owner would be considered a small entity. Instead, because crabs are relatively high value, the majority of harvesters join cooperatives, which allows them to pool their quota.

Three catcher/processor owners are required to submit catcher/processor data reporting forms under the proposed action. None of the catcher/processors are considered small entities. Nineteen shore-based or floating processors are required to submit their EDR data. Of these nineteen, four are small entities that are controlled by community development corporations or non-profit entities, and five are estimated to be small entities because they employ fewer than 500 individuals.

This action requires all catcher vessel and catcher/processor operators to report categories of information: Ex vessel revenues; market lease revenues; crew compensation; bait, food, and provision purchases; and fuel use by crab fishery. Catcher vessel and catcher/processor operators would also be required to report annual fuel and labor costs aggregated across all fisheries and identify whether the vessel operated as a tender. Processors and catcher/processors would be required to report crab purchases, custom processing services provided and purchased, crab sales revenue, and processing labor costs.

The reporting requirement under this action is substantially less than was required under the previous regulations. The changes to the EDR Program will reduce the record keeping and reporting requirements substantially from the status quo, resulting in reduced administrative expenses for both small and large entities.

Description of Significant Alternatives to the Final Action That Minimize Adverse Impacts on Small Entities

A FRFA must describe the steps the agency has taken to minimize the significant economic impact on small entities consistent with the stated objectives of applicable statues, including a statement of the factual, policy, and legal reasons for selecting the alternative adopted in the final rule and why each one of the other significant alternatives to the rule considered by the agency that affect the impact on small entities was rejected. “Significant alternatives” are those that achieve the stated objectives for the action, consistent with prevailing law with potentially lesser adverse economic impacts on small entities, as a whole. No significant alternatives were developed for this action. This action minimizes the economic impacts of the status quo on small entities by requiring participants to only submit those data elements that were assessed and were found to be the most accurately and consistently reported by industry members. By reducing the amount of data collected, the burden on industry members to report has been reduced.

Duplicate, Overlapping, or Conflicting Federal Rules

No duplication, overlap, or conflict between this action and existing Federal rules has been identified.

Recordkeeping and Reporting Requirements

The recordkeeping, reporting, and other compliance requirements will be reduced by this action. The initial data collection program, which was created through the creation of the CR Program, required more data to be submitted than what is required under this new action. After assessing the data, the Council and NMFS both worked with industry, the SSC, the AP, and the public to ensure that only those data that can be reliably, consistently, and accurately reported are included in the revised EDR. Submission of the annual EDR is mandatory.

The professional skills necessary to comply with reporting and recordkeeping requirements for small entities impacted by this rule include the ability to read, write, and understand English, and the ability to use a personal computer and the internet. The person also must have authority to take actions on behalf of the designated signatory. Each of the small entities must be capable of complying with the requirements of this rule. Each small entity should have financial resources to obtain legal or technical expertise that they might require to fulfill the EDR requirement.

Small Entity Compliance Guide

Section 212 of the Small Business Regulatory Enforcement Fairness Act of 1996 states that, for each rule or group of related rules for which an agency is required to prepare a FRFA, the agency shall publish one or more guides to assist small entities in complying with the rule and shall designate such publications as “small entity compliance guides”. The agency shall explain the actions a small entity is required to take to comply with a rule or group of rules. As part of this rulemaking process, NMFS has posted a small entity compliance guide on the NMFS Alaska Region Web site: http://alaskafisheries.noaa.gov/sustainablefisheries/crab/rat/progfaq.htm. Contact NMFS to request a hard copy of the guide.

Collection-of-Information Requirements

This rule contains collection-of-information requirements subject to the Paperwork Reduction Act (PRA), which have been approved by the Office of Management and Budget (OMB) under OMB Control No. 0648-0518.

Public reporting burden is estimated to average 10 hours for Annual Catcher Vessel Crab EDR; 10 hours for Annual Catcher/processor Crab EDR; 10 hours for combined Annual stationary floating crab processor and shoreside crab processor EDR (replacing formerly two separate EDRs); and 8 hours for Verification of Data. Public reporting burden includes the time for reviewing instructions, searching existing data sources, gathering and maintaining the data needed, and completing and reviewing the collection of information.

Send comment regarding this burden estimate, or any other aspect of this data collection, including suggestions for reducing the burden to NMFS (see ADDRESSSES) and by email to OIRA_Submission@omb.eop.gov, or fax to (202) 395-7285.

Notwithstanding any other provision of the law, no person is required to respond to, nor shall any person be subject to penalty for failure to comply with, a collection of information subject to the requirement of the PRA, unless that collection of information displays a currently valid OMB control number.

List of Subjects in 50 CFR Part 680

Alaska, Fisheries, Reporting and recordkeeping requirements.

Dated: June 11, 2013.
Samuel D. Rauch III,
Deputy Assistant Administrator for Regulatory Programs, Performing the functions and duties of the Assistant Administrator for Fisheries, National Marine Fisheries Service.

For the reasons set out in the preamble, NMFS amends 50 CFR part 680 as follows:

PART 680—SHELLFISH FISHERIES OF THE EXCLUSIVE ECONOMIC ZONE OFF ALASKA

1. The authority citation for 50 CFR part 680 continues to read as follows:

Authority: 16 U.S.C. 1862; Pub. L. 109-241; Pub. L. 109-479.

2. Section 680.6 is revised to read as follows:

§ 680.6 Crab economic data report (EDR).

(a) Requirements. (1) Any owner or leaseholder of a vessel or processing plant, or a holder of a registered crab receiver permit that harvested, processed, custom processed, or obtained custom processing for CR crab, during a calendar year, must submit a complete Economic Data Report (EDR) by following the instructions on the applicable EDR form.

(2) A completed EDR or EDR certification pages must be submitted to the DCA for each calendar year on or before 1700 hours, A.l.t., July 31 of the following year.

(3) Annual EDR forms for catcher vessels, catcher/processors, shoreside crab processors, and stationary floating crab processors are available on the NMFS Alaska Region Web site at http://alaskafisheries.noaa.gov or the Pacific States Marine Fisheries Commission (PSMFC) Alaska Crab Rational Program Web site at www.psmfc.org/alaska_crab/, or by contacting NMFS at 1-800-304-4846.

(b) EDR certification pages. Any person required to submit an annual EDR under paragraph (a) of this section must submit the EDR certification pages as either:

(1) Part of the entire EDR. Persons submitting the completed EDR certification pages as part of the entire EDR must attest to the accuracy and completion of the EDR by signing and dating the certification pages; or

(2) A separate document. Persons submitting the completed EDR certification pages only must attest that they meet the conditions exempting them from submitting the entire EDR, by signing and dating the certification pages.

(c) Annual catcher vessel crab EDR—Any owner or leaseholder of a catcher vessel that landed CR crab in the previous calendar year must submit to the DCA, electronically or at the address provided on the form, a completed catcher vessel EDR for annual data for the previous calendar year.

(d) Annual catcher/processor crab EDR—Any owner or leaseholder of a catcher/processor that harvested or processed CR crab in the previous calendar year must submit to the DCA, electronically or at the address provided on the form, a completed catcher/processor EDR for annual data for the previous calendar year.

(e) Annual stationary floating crab processor (SFCP) and shoreside crab processor EDR—(1) Any owner or leaseholder of an SFCP or a shoreside crab processor that processed CR crab, including custom processing of CR crab performed for other crab buyers, in the previous calendar year must submit to the DCA, electronically or at the address provided on the form, a completed processor EDR for annual data for the previous calendar year.

(2) Any holder of a registered crab receiver (RCR) permit that obtained custom processing for CR Program crab in the previous calendar year must submit to the DCA, electronically or at the address provided on the form, a completed processor EDR for annual data for the previous calendar year.

(f) Verification of data. (1) The DCA shall conduct verification of information with the owner or leaseholder.

(2) The owner or leaseholder must respond to inquiries by the DCA within 20 days of the date of issuance of the inquiry.

(3) The owner or leaseholder must provide copies of additional data to facilitate verification by the DCA. The DCA auditor may review and request copies of additional data provided by the owner or leaseholder, including but not limited to previously audited or reviewed financial statements, worksheets, tax returns, invoices, receipts, and other original documents substantiating the data.

(g) DCA authorization. The DCA is authorized to request voluntary submission of economic data specified in this section from persons who are not required to submit an EDR under this section.

Table 2 to Part 680 [Removed]

3. Remove Table 2 to Part 680.

Tables 3c, 4, 5, and 6 to Part 680 [Removed]

4. Remove Tables 3c, 4, 5, and 6 to part 680.

[FR Doc. 2013-14332 Filed 6-14-13; 8:45 am]

BILLING CODE 3510-22-P